DEPARTMENT OF HOMELAND SECURITY

Transportation Security Administration

New Agency Information Collection Activity Under OMB Review: Speaker Request Form.

AGENCY: Transportation Security Administration, Homeland Security (DHS).

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves the basic point of contact information on the person/organization requesting a TSA speaker, the logistical information for that speaking engagement, and context for the request to determine the audience reach, ethical concerns, and possible promotion of the speaking engagement.

DATES: Send your comments by August 30, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on April 22, 2021, 86 FR 21339.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Speaker Request Form.

Type of Request: New collection.

OMB Control Number: 1652-XXXX.

Form(s): Speaker Request Form.

Affected Public: The general public requesting a TSA speaker.

Abstract: To respond to public speaking invitations, TSA has created the Speaker Request Form, which collects information on the requestor and the event a speaker would attend. The form requests the name of the organization and if it is a profit or nonprofit organization; the point of contact information for the person coordinating the event; the date, time, and location of the event; the type of event (e.g., keynote, dinner, panel, interview, etc.); the purpose of the event; the topics of discussion; the audience makeup; other notable guests; and if media will be attending.

TSA is submitting the form as a Common Form to permit Federal agency users beyond the agency that created the form (e.g., Department of Homeland Security or U.S. Office of Personnel Management) to streamline the information collection process in coordination with OMB.

Number of Respondents: 300.

Estimated Annual Burden Hours: An estimated 50 hours annually.

Dated: July 26, 2021.
Christina A. Walsh,
TSA Paperwork Reduction Act Officer, Information Technology.

[FR Doc. 2021-16216 Filed 7-29-21; 8:45 am]

BILLING CODE 9110-05-P